NATIONAL FOUNDATION ON THE ARTS AND THE HUMANITIES

National Endowment for the Arts

30-Day Notice for the “Agency Initiatives Poetry Out Loud or the Musical Theater Songwriting Challenge for High School Students”

AGENCY: National Endowment for the Arts.

ACTION: Notice.

SUMMARY: The National Endowment for the Arts (NEA) has submitted the following public information collection request (ICR) to the Office of Management and Budget (OMB) for review and approval in accordance with the Paperwork Reduction Act of 1995: Applications from students for Poetry Out Loud, the Musical Theater Songwriting Challenge for High School Students, or other agency initiatives for youth. Copies of this ICR, with applicable supporting documentation, may be obtained by visiting www.Reginfo.gov.

DATES: Written comments must be submitted to the office listed in the address section below within 30 days from the date of this publication in the Federal Register.

ADDRESSES: Send comments to the Office of Information and Regulatory Affairs, Attn: OMB Desk Officer for the National Endowment for the Arts, Office of Management and Budget, Room 10235, Washington, DC 20503.

FOR FURTHER INFORMATION CONTACT: The Office of Information and Regulatory Affairs, Attn: OMB Desk Officer for the National Endowment for the Arts, Office of Management and Budget, Room 10235, Washington, DC 20503, 202-395-7316.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Could help minimize the burden of the collection of information on those who are to respond, including through the use of electronic submission of responses through Grants.gov.

Agency: National Endowment for the Arts.

Title: Applications from students for Poetry Out Loud, the Musical Theater Songwriting Challenge for High School Students, or other agency initiatives for youth.

OMB Number: 3135-0137.

Frequency: Annually.

Affected Public: Individuals.

Estimated Number of Respondents: 300.

Estimated Time per Respondent: 1 hour.

Total Burden Hours: 300.

Total Annualized Capital/Startup Costs: 0.

Total Annual Costs (Operating/Maintaining Systems or Purchasing Services): 0.

The National Endowment for the Arts requests the review of applications from students for Poetry Out Loud, the Musical Theater Songwriting Challenge for High School Students, or other agency initiatives for youth. This entry is issued by the National Endowment for the Arts and contains the following information: (1) The title of the form; (2) how often the required information must be reported; (3) who will be required or asked to report; (4) what the form will be used for; (5) an estimate of the number of responses; (6) the average burden hours per response; (7) an estimate of the total number of hours needed to prepare the form. This entry is not subject to 44 U.S.C. 3504(h).

The Application Form, for which clearance is requested, is used to gather basic information from youth applying to Poetry Out Loud, the Musical Theater Songwriting Challenge for High School Students, or other agency initiatives for youth. Information is needed to verify eligibility for the program and to facilitate judging of the entries.

Dated: August 29, 2018.
Jillian LeHew Miller,
Director, Office of Guidelines and Panel Operations, National Endowment for the Arts.

[FR Doc. 2018-19140 Filed 9-4-18; 8:45 am]

BILLING CODE 7537-01-P